FEDERAL ELECTION COMMISSION

Sunshine Act Meetings

AGENCY: Federal Election Commission.

DATE AND TIME: Thursday, September 18, 2014 at 10:00 a.m.

PLACE: 999 E Street NW., Washington, DC (Ninth Floor).

STATUS: This meeting will be open to the public.

Items To Be Discussed

Correction and Approval of Minutes for August 14, 2014

Draft Advisory Opinion 2014-11: Health Care Service Corporation Employees' Political Action Committee

Draft Advisory Opinion 2014-13: ActBlue

Audit Division Recommendation Memorandum on Canseco for Congress (CFC) (A11-03)

Management and Administrative Matters

Individuals who plan to attend and require special assistance, such as sign language interpretation or other reasonable accommodations, should contact Shawn Woodhead Werth, Secretary and Clerk, at (202) 694-1040, at least 72 hours prior to the meeting date.

Person to Contact for Information: Judith Ingram, Press Officer, Telephone: (202) 694-1220.

Shawn Woodhead Werth,
Secretary and Clerk of the Commission.

[FR Doc. 2014-22087 Filed 9-12-14; 11:15 am]

BILLING CODE 6715-01-P